DEPARTMENT OF ENERGY

Federal Energy Regulatory Commission

Combined Notice of Filings #2

Take notice that the Commission received the following electric rate filings:

Docket Numbers: ER10-1942-014; ER10-1862-016; ER10-1877-004; ER10-1893-016; ER10-1934-016; ER10-1938-017; ER10-2042-022; ER10-2985-020; ER10-3049-021; ER10-3051-021; ER17-696-002.

Applicants: Calpine Construction Finance Company, L.P., Calpine Energy Services, L.P., Calpine Energy Solutions, LLC, Calpine Power America-CA, LLC, CES Marketing IX, LLC, CES Marketing X, LLC, Champion Energy Marketing LLC, Champion Energy Services, LLC, Champion Energy, LLC, Hermiston Power, LLC, Power Contract Financing, L.L.C.

Description: Updated Market Power Analysis for the Northwest Region of the Calpine Corporation MBR Sellers.

Filed Date: 12/30/16.

Accession Number: 20161230-5127.

Comments Due: 5 p.m. ET 2/28/17.

Docket Numbers: ER11-4717-002.

Applicants: International Paper Company.

Description: Notice of Non-Material Change in Status of International Paper Company.

Filed Date: 12/30/16.

Accession Number: 20161230-5043.

Comments Due: 5 p.m. ET 1/20/17.

Docket Numbers: ER15-2582-002; ER10-1851-007; ER10-1852-015; ER10-1930-007; ER10-1931-008; ER15-2101-004; ER12-2226-007; ER12-2225-007; ER14-2138-004; ER10-1966-008; ER10-1976-008; ER10-1985-008; ER10-1971-034; ER11-4462-025.

Applicants: Carousel Wind Farm, LLC, ESI Vansycle Partners, L.P., Florida Power & Light Company, FPL Energy Stateline II, Inc., FPL Energy Vansycle, L.L.C, Golden West Power Partners, LLC, Limon Wind, LLC, Limon Wind II, LLC, Limon Wind III, LLC, Logan Wind Energy LLC, Northern Colorado Wind Energy, LLC, Peetz Table Wind Energy, LLC, NextEra Energy Power Marketing, LLC, NEPM II, LLC.

Description: Triennial Market Power Update for the Northwest Region of NextEra Companies.

Filed Date: 12/30/16.

Accession Number: 20161230-5176.

Comments Due: 5 p.m. ET 2/28/17.

Docket Numbers: ER17-696-001.

Applicants: Calpine Energy Solutions, LLC.

Description: Notification of Change in Status of Calpine Energy Solutions, LLC.

Filed Date: 12/30/16.

Accession Number: 20161230-5113.

Comments Due: 5 p.m. ET 1/20/17.

Docket Numbers: ER17-715-000.

Applicants: Midcontinent Independent System Operator, Inc.

Description: § 205(d) Rate Filing: 2016-12-30_SA 2988 MidAmerican-MidAmerican GIA (J500) to be effective 12/31/2016.

Filed Date: 12/30/16.

Accession Number: 20161230-5023.

Comments Due: 5 p.m. ET 1/20/17.

Docket Numbers: ER17-716-000.

Applicants: Midcontinent Independent System Operator, Inc.

Description: Compliance filing: 2016-12-30 _Order 828 Compliance Filing to be effective N/A.

Filed Date: 12/30/16.

Accession Number: 20161230-5025.

Comments Due: 5 p.m. ET 1/20/17.

Docket Numbers: ER17-717-000.

Applicants: PJM Interconnection, L.L.C.

Description: § 205(d) Rate Filing: Queue Position AB2-048, Original Service Agreement No. 4597 to be effective 11/30/2016.

Filed Date: 12/30/16.

Accession Number: 20161230-5028.

Comments Due: 5 p.m. ET 1/20/17.

Docket Numbers: ER17-718-000

Applicants: PJM Interconnection, L.L.C.

Description: § 205(d) Rate Filing: Revisions to MISO-PJM JOA, Article IX sections 9.3 and 9.4 to be effective 12/31/9998.

Filed Date: 12/30/16.

Accession Number: 20161230-5057.

Comments Due: 5 p.m. ET 1/20/17.

Docket Numbers: ER17-719-000.

Applicants: PJM Interconnection, L.L.C., Metropolitan Edison Company, American Transmission Systems, Incorporated.

Description: § 205(d) Rate Filing: ATSI et. al. submits OIA SA No. 2852 & ECSA SA No. 4554 to be effective1/1/2017.

Filed Date: 12/30/16.

Accession Number: 20161230-5059.

Comments Due: 5 p.m. ET 1/20/17.

Docket Numbers: ER17-720-000.

Applicants: Midcontinent Independent System Operator, Inc., Ameren Illinois Company.

Description: § 205(d) Rate Filing: 2016-12-30_SA 2991 Ameren Illinois-Prairie Power CA (Shelbyville Substation) to be effective 12/1/2016.

Filed Date: 12/30/16.

Accession Number: 20161230-5060.

Comments Due: 5 p.m. ET 1/20/17.

Docket Numbers: ER17-721-000.

Applicants: Midcontinent Independent System Operator, Inc.

Description: § 205(d) Rate Filing: 2016-12-30_Targeted Market Efficiency Amendments to MISO-PJM JOA to be effective 6/28/2017.

Filed Date: 12/30/16.

Accession Number: 20161230-5066.

Comments Due: 5 p.m. ET 1/20/17.

Docket Numbers: ER17-722-000.

Applicants: ITC Midwest LLC.

Description: § 205(d) Rate Filing: Second Amended and Restated Corn Belt Interconnection Agreement to be effective 3/1/2017.

Filed Date: 12/30/16.

Accession Number: 20161230-5078.

Comments Due: 5 p.m. ET 1/20/17.

Docket Numbers: ER17-723-000.

Applicants: NRG Power Marketing LLC.

Description: § 205(d) Rate Filing: Tariff Filing to be effective 2/1/2017.

Filed Date: 12/30/16.

Accession Number: 20161230-5106.

Comments Due: 5 p.m. ET 1/20/17.

Docket Numbers: ER17-724-000.

Applicants: Palouse Wind, LLC.

Description: Market-Based Triennial Review Filing: Northwest Triennial to be effective 12/31/2016.

Filed Date: 12/30/16.

Accession Number: 20161230-5133.

Comments Due: 5 p.m. ET 2/28/17.

Docket Numbers: ER17-725-000.

Applicants: PJM Interconnection, L.L.C.

Description: § 205(d) Rate Filing: Revisions to OATT Sch 12-Appdx and Appdx A for 2017 RTEP Annual Cost Allocations to be effective 1/1/2017.

Filed Date: 12/30/16.

Accession Number: 20161230-5154.

Comments Due: 5 p.m. ET 1/20/17.

Docket Numbers: ER17-726-000.

Applicants: California Independent System Operator Corporation.

Description: § 205(d) Rate Filing: 2016-12-30 Amdt 1 to CAISO and BANC Dynamic Transfer Balancing Authority Agmt to be effective 3/1/2017.

Filed Date: 12/30/16.

Accession Number: 20161230-5175.

Comments Due: 5 p.m. ET 1/20/17.

Docket Numbers: ER17-727-000.

Applicants: Valley Electric Association, Inc.

Description: § 205(d) Rate Filing: Revisions to Transmission Revenue Requirement to be effective 3/1/2017.

Filed Date: 12/30/16.

Accession Number: 20161230-5178.

Comments Due: 5 p.m. ET 1/20/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2016.
Nathaniel J. Davis, Sr.,
Deputy Secretary.

[FR Doc. 2017-00378 Filed 1-10-17; 8:45 am]

BILLING CODE 6717-01-P